DEPARTMENT OF THE INTERIOR

National Park Service

[PPWODIREP0;PPMPSPD1Y.YM0000]

“Made in America” Outdoor Recreation Advisory Committee Establishment; Request for Nominations

AGENCY: National Park Service, Interior.

ACTION: Notice.

SUMMARY: The U.S. Department of the Interior (DOI) is establishing and seeking nominations for the “Made in America” Outdoor Recreation Advisory Committee (Committee). The Committee will provide advice to the Secretary of the Interior on the public-private partnerships across all public lands, with the goal of expanding access to and improving infrastructure on public lands and waterways.

DATES: Comments regarding the establishment of this Committee must be submitted no later than November 24, 2017. Nominations for the Committee must be submitted by December 8, 2017.

ADDRESSES: You may submit comments and/or nominations by any of the following methods:

• Mail or hand-carry nominations to Terry Austin, Associate Director for Business Services, National Park Service, Office of Business Services, 1849 C Street NW., MS 2717, Washington, DC 20240; or

• Email nominations to: teresa_austin@nps.gov.

FOR FURTHER INFORMATION CONTACT: Terry Austin, by U.S. mail at the National Park Service, Office of Business Services, 1849 C Street NW., MS 2717, Washington, DC 20240; by telephone at (202) 513-7241; or by email at teresa_austin@nps.gov.

SUPPLEMENTARY INFORMATION: The Committee is established under the authority of the Secretary of the Interior (Secretary) and regulated by the Federal Advisory Committee Act (FACA), as amended (5 U.S.C. Appendix 2). The Committee's duties are strictly advisory and will include, but are not limited to, providing recommendations on policies and programs that: Expand and improve visitor infrastructure developed through public-private partnerships; implement sustainable operations embracing fair, efficient, and convenient fee collection and strategic use of the collected fees; improve interpretation using technology; and create better tools and/or opportunities for Americans to discover their lands and waters. The Committee will also provide recommendations for implementation of Secretary's Order 3347—Conservation Stewardship and Outdoor Recreation.

The Committee will meet approximately two times per year. The Secretary of the Interior will appoint members and their alternates to the Committee to serve up to a 3-year term. The Committee will not exceed 18 discretionary and 2 ex officio members.

Ex officio members will include:

• Secretary of the Interior and/or a designated Department of the Interior representative.

The Secretary will select remaining members from among, but not limited to, the entities listed below. These members must be senior-level representatives of their organizations:

• Camping, recreational, and/or all-terrain vehicle (ATV) industries;

• Tourism and/or guide industries related to outdoor recreation;

• Hospitality industries;

• Outdoor outfitter industries;

• Saltwater and freshwater recreational fishing organizations;

• Recreational boating organizations;

• Industrial Manufacturing industries; and

• Transportation industries.

Nominations should include a resume providing an adequate description of the nominee's qualifications, including information that would enable DOI to make an informed decision regarding meeting the membership requirements of the Committee and to permit DOI to contact a potential member.

Members of the Committee serve without compensation. However, while away from their homes or regular places of business, Committee and subcommittee members engaged in Committee or subcommittee business that the DFO approves may be allowed travel expenses, including per diem in lieu of subsistence, as authorized by 5 U.S.C. 5703, in the same manner as persons employed intermittently in Federal Government service.

Public Disclosure of Comments: Before including your address, phone number, email address, or other personal identifying information in your comment, you should be aware that your entire comment—including your personal identifying information—may be made publicly available at any time. While you can ask us in your comment to withhold your personal identifying information from public review, we cannot guarantee that we will be able to do so.

Certification Statement: I hereby certify that the “Made in America” Outdoor Recreation Advisory Committee is necessary, is in the public interest, established under the authority of the Secretary of the Interior, and in furtherance of the National Park Service Organic Act (16 U.S.C. 1), the Fish and Wildlife Act of 1956 (16 U.S.C. 742a), the Federal Land Policy and Management Act of 1976 (43 U.S.C. 1701), the National Wildlife Refuge System Improvement Act of 1997 (16 U.S.C. 668dd), and other Acts applicable to specific bureaus.

Authority: 5 U.S.C. Appendix 2.

Dated: November 2, 2017.
Ryan K. Zinke,
Secretary, Department of the Interior.

[FR Doc. 2017-24325 Filed 11-7-17; 8:45 am]

BILLING CODE 4312-52-P